COMMISSION ON CIVIL RIGHTS

Information Quality Guidelines and Request for Comments

AGENCY: Commission on Civil Rights.

ACTION: Proposed Information Quality Guidelines and Request for Comments.

SUMMARY: The Office of Management and Budget (OMB) directed Federal agencies to make available on their Web sites guidelines that ensure and maximize the quality, objectivity, utility, and integrity of information (including statistical information) they disseminate. Federal agencies should also make available on their Web sites administrative mechanisms that allow affected persons to seek and obtain correction of information that the agency maintains and disseminated that does not comply with the guidelines. The U.S. Commission on Civil Rights (Commission) now seeks public comments on the following guidelines covering pre-dissemination information quality control and an administrative mechanism for requests for correction of information the Commission publicly disseminates.

DATES: Submit comments on or before August 23, 2006.

ADDRESSES: Address comments concerning these proposed guidelines to: David P. Blackwood, Esq. General Counsel, United States Commission on Civil Rights, 624 9th Street, NW., Washington, DC 20425. Comments can be faxed to (202) 376-7672.

FOR FURTHER INFORMATION CONTACT: David P. Blackwood, Esq., General Counsel, United States Commission on Civil Rights, 624 9th Street, NW., Washington, DC 20425 Tel. (202) 376-8351.

For the reasons discussed in the summary, the Commission proposes to issue these guidelines pursuant to Section 515 of the Paperwork Reduction Act (44 U.S.C. 3502(1) et seq.).

Dated: July 19, 2006.
David P. Blackwood,
General Counsel.

SUPPLEMENTARY INFORMATION:

Section I. The U.S. Commission on Civil Rights' Mission and Mandate

.01 The Commission is an independent, bipartisan, fact-finding Federal agency of the executive branch established under the Civil Rights Act of 1957 to monitor and report on the status of civil rights in the nation. As the nation's conscience on matters of civil rights, the Commission strives to keep the President, Congress, and the public informed about civil rights issues that deserve concerted attention.

.02 The Commission is mandated to:

(a) Investigate complaints alleging that citizens are being deprived of their right to vote by reason of their race, color, religion, sex, age, disability, or national origin, or by reason of fraudulent practices;

(b) Study and collect information relating to discrimination or a denial of equal protection of the laws under the Constitution because of race, color, religion, sex, age, disability, or national origin, or in the administration of justice;

(c) Appraise Federal laws and policies with respect to discrimination or denial of equal protection of the laws because of race, color, religion, sex, age, disability, or national origin, or in the administration of justice;

(d) Serve as a national clearinghouse for information in respect to discrimination or denial of equal protection of the laws because of race, color, religion, sex, age, disability, or national origin;

(e) Submit reports, findings, and recommendations to the President and Congress;

(f) Issue public service announcements to discourage discrimination or denial of equal protection of the laws.

.03 The Commission's National Office is in Washington, DC. Its six Regional Offices are located throughout the nation:

(a) The Eastern Regional Office, Washington, DC;

(b) Southern Regional Office, Atlanta, Georgia;

(c) Midwestern Office, Chicago, Illinois;

(d) Central Regional Office, Kansas City, Kansas;

(e) Rocky Mountain Office, Denver, Colorado; and

(f) Western Regional Office, Los Angeles, California.

.04 State Advisory Committees (SACs) are established in each State and in Washington, DC. SACs advise the Commission on matters pertaining to discrimination or denials of equal protection of the laws because of race, color, religion, sex, national origin, age, disability, or in the administration of justice. They also assist the Commission in its statutory obligation to serve as a national clearinghouse for information on those subjects. SACs present advice to the Commission in a variety of forms, including formal fact-finding reports and briefing memoranda.

Section II. The Office of Management and Budget Governmentwide Guideline

.01 Section 515 of the Treasury and General Government Appropriation Act for Fiscal Year 2001 (Public Law 106-554) directs OMB to issue to Federal agencies subject to the Paper Reduction Act (44 U.S.C. Chapter 3502(1) et seq.) governmentwide guidelines that provide policy and procedural guidance for ensuring and maximizing the quality, objectivity, utility, and integrity of the information (including statistical information) that they disseminate. Specifically, the OMB guidelines direct agencies to:

(a) Issue their own guidelines, consistent with government-wide guidelines, to ensure and maximize the quality, objectivity, utility, and integrity of information (including statistical information) the agency disseminates;

(b) Establish administrative mechanisms allowing affected persons to seek and obtain correction of information the agency maintains and disseminates that does not comply with OMB guidelines; and

(c) Report annually to the OMB Director the number and nature of complaints the agency received regarding compliance with OMB guidelines on quality, objectivity, utility, and integrity of information and how such complaints were resolved.

.02 The OMB guidelines offer three underlying principles. Agencies should ensure that the guidelines:

(a) Are sufficiently flexible to be applied to a wide variety of information activities that range in importance and scope, and to fit all forms of media;

(b) Meet basic information quality standards, although some information may require higher or more specific standards. Agencies should weigh the costs and benefits of higher information quality in the context of their mission, budget constraints, and timeliness in dissemination; and

(c) Are applied in a common-sensical and workable manner. Agencies should incorporate quality information guideline standards and procedures into existing processes and procedures. Application of these guidelines should not impose unnecessary administrative burdens.

Section III. The Commission's Existing Policies and Procedures That Ensure and Maximize Information Quality

.01 The Commission disseminates information on civil rights through:

(a) Reports to Congress and the President, including an annual report on civil rights enforcement as required by statute and other reports as considered appropriate;

(b) Program activities, such as hearings, briefings, conferences, and consultations; and

(c) Provision of civil rights information to the public through its clearinghouse function.

.02 In order to ensure the accuracy and the impartiality of the information it provides, the Commission has in place various mechanisms to correct the information it disseminates. OMB's Information Quality Guidelines urge agencies to integrate into existing guidelines for dissemination of information the standards for information quality embodied in the Data Quality Act. The Commission shall improve the quality of the information it disseminates as it seeks to achieve the strategic goals of its mission while adhering to budget and resource priorities.

.03 The mechanisms the Commission uses to ensure information quality are:

(a) Defame and Degrade. Commission regulations provide procedural guidelines when statements made at Commission hearings or in reports will defame, degrade or incriminate persons or institutions.

A statement defames and degrades if its probable effect is to damage the person or institution criticized in reputation, business, or otherwise. In determining whether damage is likely to result, it is necessary to consider the substance of the allegations, all the circumstances surrounding it, and the community perception and reaction that is likely to result. All this must all be considered in light of the applicable legal standards governing defamation of public versus private persons and entities.

When in advance of a hearing the Commission determines that certain evidence may tend to defame, degrade, or incriminate any person at any hearing, it shall receive such evidence of testimony, or a summary of such evidence or testimony in executive session. The Commission affords such persons defamed, degraded, or incriminated by such evidence or testimony an opportunity to appear and be heard in executive session with a reasonable number of additional witnesses they request, before deciding to use such evidence or testimony. If the Commission decides to make this information public, it will give the person the opportunity to appear as a voluntary witness or submit a sworn statement. procedures for addressing evidence presented at a hearing that may tend to defame, degrade, or incriminate any person are specified at 45 CFR 702.11.

If a Commission report tends to defame, degrade, or incriminate any person, the report or relevant portions thereof shall be delivered to such person at least thirty (30) days before the report is published to allow such person the opportunity to make a timely verified answer to the report, or relevant portions thereof. Administrative Instruction 7-1, Procedures for Providing an Opportunity for Response to Persons Criticized by Commission Publications and Audiovisual Products, at section 6 provides that whenever a publication, other than a statutory report, contains material that tends to defame and degrade, such person must be provided a full and fair opportunity to respond to such material. Section 7 of Administrative Instruction 7-1 provides for a defame and degrade review of State Advisory Committee reports. Section 8 of Administrative Instruction 7-1 provides for a defame and degrade review of the Civil Rights Journal.

(b) Legal Sufficiency Review. Administrative Instruction 1-6, National Project Development and Implementation, at section 15 provides for legal sufficiency review by the Office of General Counsel on draft reports and national office publications that are provided to the public. The purpose of the legal sufficiency review is to ensure the adequate interpretation and citation of legal materials and compliance with statutory requirements. SAC reports also will be subject to a legal sufficiency review.

(c) Editorial Policy Review. Administrative Instruction 1-6, National Project Development and Implementation, at section 14 provides that the Staff Director will appoint members of an editorial policy board to review draft national reports to determine the adequacy and accuracy of the substantive information in the draft document (for example, conceptual soundness, adherence to Commission policy, quality of research, argumentation, and documentation of major points). The project staff revises the draft document in accordance with the editorial board comments. The appropriate office director apprises the Staff director by memorandum of areas upon which agreement was not reached and changes were not made. Once the substantive changes are made, the new material must be submitted for an expedited legal sufficiency review.

The Regional Directors are responsible for ensuring that such reports are unbiased, methodologically sound, well written, appropriately organized, and properly formatted. SACs are ultimately responsible for the substance of their reports and memoranda. A report is forwarded to the Staff Director following formal approval from the appropriate State Advisory Committee.

(d) Affected Agency Review. Administrative Instruction 1-6, National Project Development and Implementation, at section 16 provides that after completing any revisions occasioned by legal and editorial reviews, the director of the appropriate office sends the sections of the draft report that pertain to a government agency to the affected agency for review and comment on the accuracy of the material contained therein. The Commission's draft findings, conclusions, and recommendations are not submitted to the affected agency. Nongovernmental organizations receive pertinent material for review where appropriate. Upon receipt of comments, the project staff prepares the appropriate revisions. SAC reports also are subject to an affected agency review.

.04 Information Technology and Systems Management. Administrative Instruction 4-18, Information Technology and Systems Management, provides guidance for the appropriate management of information technology resources and systems throughout their life cycle, in accordance with federal regulations, policies and guidelines. It also provides for the establishment and maintenance of a strategic information resources management planning process that includes:

(a) An up-to-date five-year plan that has, among others, document linkages between mission needs and information technology capabilities; and

(b) An up-to-date security and disaster preparedness plan for information systems that provides adequate assurances of the availability, confidentiality and integrity of the information systems.

.05 The Staff Director is the Chief Information Officer (CIO) of the agency and has primary responsibility for managing the Commission's information resources. The Deputy CIO will manage the Commission's security systems and procedures, and monitor Commission compliance with appropriate federal policies, principles, standards, guidelines, rules, and administrative instructions.

.06 Data Collection from the Public.

(a) Administrative Instruction 1-6, National Project Development and Implementation, at section 9 provides that the Chief of the Administrative Services and Clearinghouse Division (ASCD) is the Commission's designated paperwork reduction officer, and as such, is responsible for reviewing proposed data collection procedures as required by the Paperwork Reduction Act of 1980. It provides that when collecting information from ten or more persons or organizations, the Commission must receive prior approval from OMB. The appropriate documents are submitted to the ASCD Chief at least fifty (50) days before the anticipated administration of a questionnaire or interview schedule.

(b) The Civil rights Commission Amendments Act of 1994, Pub. L. 103-419, 108 Stat. 4338, at 42 U.S.C. 1975a(e) provides that the Commission may issue subpoenas for the attendance of witnesses and the production of written or other matter in a hearing approved by the Commission. In addition, the Commission may use depositions and written interrogatories to obtain information and testimony about matters that are the subject of a Commission hearing or report.

Further, data also are collected at briefings, conferences, hearings, and during consultation and interviews by staff. Staff shall submit the Commission's Privacy Act notice to potential data sources at these prior to collecting the data.

Section IV. Scope and Applicability of the Commission's Quality Information Guidelines

.01 Consistent with OMB guidance, the definitions of information and dissemination set the scope and applicability of the Commission's quality information guidelines. For the purposes of these guidelines, information means any communication or representation of facts or data, in any medium or form, including textual, numerical, graphic, cartographic, narrative, or audiovisual forms. This definition includes information that the Commission disseminates from a Web page, but does not include the provision of hyperlinks to information that others disseminate.

.02 This definition of information does not include:

(a) Opinions or policies, where the presentation makes clear that the statements are subjective opinions, rather than facts. Underlying information upon which the opinion or policy is based may be subject to these guidelines only if the Commission publishes that information;

(b) Information originated by and attributed to non-Commission sources, provided the Commission does not expressly rely upon it. Examples include non-U.S. government information reported and duly attributed in materials the Commission prepared and disseminated, hyperlinks on the Commission's Web site to information that others disseminate, and reports of advisory committees published on the Commission's Web site that are not explicitly endorsed by the Commission;

(c) Statements relating solely to the Commission's internal personnel rules and practices and other materials produced for the Commission's employees, contractors, or agents;

(d) Descriptions of the Commission, its responsibilities, and organizational components;

(e) Statements, the modifications of which might cause harm to the national security, including harm to the national defense or foreign relations of the United States;

(f) Statements of Commission policy; however, any underlying information the Commission published upon which a statement is based may be subjected to these guidelines;

(g) Testimony or comments of Commission officials before courts, administrative bodies, Congress, or the media;

(h) Investigatory material compiled pursuant to U.S. law or for law enforcement purposes in the United States; or

(i) Statements which are, or which reasonably may be expected to become, the subject of litigation, whether before a U.S. or foreign court or in an international arbitral or other dispute resolution proceeding.

.03 Dissemination means Commission initiated or sponsored distribution of information to the public (see 5 CFR 1320.3(d) “Conduct or Sponsor”).

.04 This definition of dissemination does not include distributions of information or other materials that are:

(a) Produced in response to requests for Commission records under the Freedom of Information Act, the Privacy Act, the Federal Advisory Committee Act, or similar law; or

(b) Archival records, public filings, responses to subpoena or compulsory document productions, or documents prepared and released in the context of adjudicative processes. These guidelines do not impose any additional requirements on the Commission during adjudicative proceedings and do not provide parties to such adjudicative proceedings any additional rights of challenge or appeal; and

(c) Limited to Commission employees or Commission contractors or grantees, as well as intra-or-inter-agency use or sharing of government information.

.05 Consistent with OMB guidance, the Commission's guidelines apply to any covered information the Commission disseminated on or after October 1, 2002. The Commission's administrative mechanism shall apply to information that it disseminates on or after October 1, 2002, regardless of when it first disseminated the information.

Section V. The Commission's Guidelines for Ensuring and Maximizing Information Quality

0.1 In accordance with OMB guidelines, quality encompasses utility, objectivity, and integrity. These four statutory terms sometimes are collectively referred to as quality. The Commission shall adopt a basic standard of quality and take appropriate steps to ensure that all offices in the National Office and each Regional Office incorporate quality criteria into its information dissemination practices.

0.2 Utility of Information

(a) Utility means the usefulness of the disseminated information to its intended users, including the public. The Commission is committed to disseminating quality information. Basic to achieving utility is an understanding of what information is needed as the Commission seeks to fulfill its mission and mandate. The Commission shall identify civil rights issues in which there is a critical need for information and shall develop and implement plans to provide such information.

(b) The Commission shall assess the utility of the information it will produce from original research and secondary analysis of existing data. It shall also assess the utility of the information it disseminates that is provided by or obtained from outside sources and which it adopts, endorses, or uses.

(c) When reproducibility and transparency of information are essential for determining information utility, the Commission shall ensure the reproducibility and transparency of the research design and analytic methods. In this context, reproducibility means that the information is capable of being reproduced, subject to an acceptable degree of imprecision. With respect to analytic results, “capable of being substantially reproduced” means that independent analysis of the original or supporting data using identical methods would generate similar analytic results, subject to an acceptable degree of imprecision.

(d) In order to enhance further the utility of information, the Commission shall ensure that the information it will disseminate is clearly written in plain English, grammatically correct, and free of spelling or typographical errors. Where appropriate, the Commission shall include contact information for intended users and the public who may wish to obtain supplementary information, seek further elucidation, or provide comments.

0.3 Objectivity of Information

Objectivity concerns substance and presentation of disseminated information. Substance focuses on whether the content of the disseminated information is accurate, reliable, unbiased, and balanced. Presentation concerns whether the disseminated information is presented in an accurate, clear, complete, and unbiased manner. The Commission is committed to disseminating information that reflects these two elements.

(a) In the course of fulfilling its mission and mandate, the Commission conducts social science studies and evaluates federal civil rights enforcement programs, reports on findings and conclusions, and makes recommendations. The Commission strives for a research process that embodies methodological and statistical rigor, intellectual honesty in analysis, and presentation of findings and conclusions in full and proper context in order to achieve accurate, reliable, and unbiased reports. In this respect, the Commission's Administrative Instruction 1-6, National Project Development and Implementation at sections 7 and 8 is instructive. Consistent with it, the Commission shall ensure that the program office primarily responsible for reports:

(1) Develops methodologically strong and practically feasible research designs capable of judging the issues addressed;

(2) Makes explicit the assumptions underlying research efforts;

(3) Conducts thorough review of the literature representing a wide range of perspectives on the subject of study or evaluation;

(4) Uses appropriate and sound research methods to gather information;

(5) Uses appropriate and sound statistical techniques to analyze collected information;

(6) Ensures that the analysis is unbiased;

(7) Presents disseminated information within a full and proper context, including supporting data as appropriate;

(8) Identifies data sources (to the extent possible, consistent with confidentiality protections); and

(9) Specifies limitations of the study or evaluation, including error sources that affect data quality.

The Staff Director is responsible for reviewing national office project designs and proposals to ensure that they reflect objectivity and balance. The Staff Director also reviews State Advisory Committee reports for balance and objectivity.

.04 In conducting social science studies and evaluation of federal civil rights enforcement programs, the Commission may combine original research with secondary analysis of existing data or may rely solely on the latter. The sources of existing data may be other federal government agencies, advisory committees, or other organizations and individuals. The Commission expects that these entities will subject information they submit to adequate quality control measures. Prior to using existing data from outside sources, the responsible program office shall review and verify the data as necessary and appropriate. Data collected at briefings may be verified by requiring the outside sources to submit testimony upon oath or affirmation. The underlying information upon which the disseminated material is based may be subject to these guidelines only if the Commission publishes that information. Being subject to these guidelines does not necessarily mean that the material the Commission publishes is a policy statement of the United States government.

.05 When the responsible program office determines that the information it will disseminate is influential social science, financial, legal, or statistical information, it shall take extra care to include a high degree of transparency about data and research methods to meet OMB's requirement for the reproducibility of such information. In this context, influential means that such information will have or does have a clear and substantial impact on important public policies pertaining to civil rights issues or important private sector decisions that have civil rights implications. A high degree of transparency for disseminated information here means that the methodology used to derive the results is readily understandable to persons experienced in the appropriate field of study. In determining the appropriate level of transparency, the responsible program office will consider the types of data that can be practically subjected to a reproducibility requirement given ethical, feasibility, confidentiality, and national security constraints. In making this determination, the responsible program office will hold analytical results to an even higher standard than original data. It is important that analytic results have a high degree of transparency regarding:

(a) The source of the data used;

(b) The various assumptions employed;

(c) The analytic methods applied; and

(d) The statistical procedures employed.

.06 The Commission may contract, from time to time, with organizations or individuals to conduct research and analysis in support of its mission and mandate, but Commission policy does not influence their results. The responsible program office that disseminates contractor-prepared information will maintain records on data sources, data collection methods, and statistical techniques used in analysis, and retain all data and documents employed in preparing contractor reports. The Commission expects that contractors will adhere to research standards set forth in section V.03 and .04 above. When the Lead Office anticipates that the contractor-prepared information it will disseminate is influential social science, financial, or statistical information, it will ensure that the contractor adheres to section V.05 above.

.07 The clearance process contributes in important ways to the objectivity of disseminated information. The Commission's Administrative Instruction 1-6, National Project Development and Implementation, at sections 13, 14, 15, 16, and 17 provides a rigorous, multi-phased quality control clearance. Where appropriate, the Commission will seek substantive input from other government agencies, nongovernment organizations, scholars, and the public. The Commission also will determine if peer review is appropriate and, if necessary, the Lead Office will coordinate such review;

.08 Public dissemination of hard-bound information and all information published in final form on the Commission's Web site at www.usccr.gov shall occur only after clearances are obtained from the Office of the Staff Director, and, if appropriate, with the approval of the Commissioners.

.09 These guidelines focus on procedures for the dissemination of information, as those terms are defined herein. Accordingly, procedures specifically applicable to forms of communication outside the scope of these guidelines, such as those for correspondence, press releases, or to other federal employees, among others, are not included.

.10 Integrity of Information

(a) Integrity refers to security, that is, the protection of information from unauthorized access or revision in order to ensure that it is not compromised through corruption or falsification. Information technology is essential to the Commission as it seeks to fulfill its mission and mandate. A critical component of information integrity is protecting information technology systems from unauthorized access that could compromise information stored therein.

.11 Consistent with Administrative Instruction 4-18, Information Technology and System Management, the Commission shall ensure that ASCD coordinates and works with all offices in the National Office, the Regional Offices, and SACs to guarantee the integrity of information residing in its technology systems.

.12 To assist in fulfilling its mission, the Commission's Office of Civil Rights Evaluation and Office of General Counsel conduct studies on issues with civil rights implications. They may collect information for analysis and/or obtain existing information from other sources. These program offices shall protect such information from unauthorized, unanticipated, or unintentional modification. They shall use appropriate controls to safeguard draft reports and confidential information, such as interrogatory responses, from improper dissemination.

Section VI. Administrative Procedures for Pre-Dissemination Review

.01 Each Commission's program office in the National Office and each Regional Office shall incorporate OMB and Comission information quality principles into their existing pre-dissemination review procedures as appropriate.

Section VII. Administrative Mechanism for Correction of Information

.01 The Commission shall allow any affected person to request the correction of Commission-disseminated information that does not comply with applicable OMB and Commission information quality guidelines. An affected person is an individual or an entity that may use, benefit from, or be harmed by the disseminated information at issue.

.02 Information Correction Requests

(a) In the Commission's correction request process the burden of proof rests with the requester. An affected person who believes that information the Commission disseminates does not adhere to the information quality guidelines of OMB or the Commission, and who would like to request correction of specific information, needs to submit a Petition for Correction with the following information.

(1) Name, mailing address, e-mail address, telephone number, and organizational affiliation (if any) of the individual or organization submitting a petition;

(2) Detailed description of the information the requester believes does not comply with the Commission's guidelines, including the exact name of the report or publication, the date, and a description of the specific item in question;

(3) Description of the requester's interest in the information and how the requester is affected by the information in question; and

(4) Description of reason(s) that the information should be corrected, including the elements of the information quality guidelines that were not followed.

(b) The Petition for Correction should be sent to the Deputy Chief Information Officer (DCIO) for Information Management at the following address: Deputy Chief Information Officer, U.S. Commission on Civil Rights, 624 Ninth Street, NW., Washington, DC 20425.

(c) Alternatively, requesters may submit an e-mail request to the following address: dblackwood@usccr.gov. Requesters should indicate that they are submitting an Information Quality Request in the subject line of the e-mail.

.03 The DCIO will review the request and determine whether it contains all the information required for a Petition. If the request is unclear or incomplete, he/she will seek clarification from the requester.

.04 If the request is complete, the DCIO will forward it to the appropriate program office(s) for a response. The responsible office(s) will determine whether a correction is warranted, and if so, what corrective action it will take. The answer will take into consideration the importance of the information involved, the magnitude of the error, and the cost of undertaking the correction.

.05 The Commission is not required to change the content or status of information simply based on the receipt of a Petition for Correction. The Commission may reject a request that appears to be made in bad faith or without justification, and is only required to undertake the degree of correction that is appropriate for the nature and timeliness of the information involved. In addition, the Commission need not respond to requests involving information not covered by the information quality guidelines.

.06 The Commission will respond to all Petitions for Correction within sixty (60) calendar days of the receipt of the request by the DCIO, unless there is a reasonable basis for an extension. The requester will be told of the right to appeal the decision.

.07 Appeal

(a) If the requester is not satisfied with the Commission's decision on the request, he/she may appeal to the Commission's CIO within thirty (30) calendar days of the receipt of the Commission's decision. This administrative appeal must include a copy of the initial request, a copy of the Commission's decision, and a written narrative explaining why the requester believes the Commission's decision was inadequate, incomplete, or in error.

(b) This appeal will be sent to the Commission's CIO at the following address: The Chief Information Officer, Staff Director's Office, RE: Information Quality Appeal, Room 700, 624 Ninth Street, NW., Washington, DC 20425.

(c) All appeals will be impartially reviewed by parties other than those who prepared the Commission's decision. The Commission will respond to all appeals within sixty (60) calendar days of the CIO's receipt of the appeal.

(d) If the appropriate Commission official, whether at the initial or appeal stage, decides that the requester is correct and the information should be corrected, he/she will notify the Staff Director who will instruct the officials in charge of publications to attach an errata page to the publication in question so that all future dissemination of the data will show that the error was corrected.

(e) The Commission will also post information quality correction requests to its Web site. The specific information will include a copy of each correction request, the Commission's formal response(s), and any communications regarding appeals. The Commission also will include a brief description of each request and any subsequent responses.

[FR Doc. 06-6426 Filed 7-21-06; 8:45 am]

BILLING CODE 6335-01-M